DEPARTMENT OF HEALTH AND HUMAN SERVICES

Centers for Disease Control and Prevention

[Program Announcement 01047]

Cancer Prevention and Control Programs; Notice of Availability of Funds

A. Purpose

The Centers for Disease Control and Prevention (CDC) announces the availability of fiscal year (FY) 2001 funds for grant programs entitled “Cancer Prevention and Control Programs”. This program addresses the “Healthy People 2010” focus area of Cancer.

The purpose of the program is to improve and to promote health among at-risk cancer populations and to reduce cancer morbidity and mortality.

B. Eligible Applicants

Assistance will be provided only to the organizations listed below. No other applications are solicited. The Conference Report H.R. 4577, Consolidated Appropriations Act, 2001, specified these funds for the organizations listed below. No other applications are solicited or will be accepted.

1. Healthcare Association of New York to develop an integrated model for the delivery of comprehensive breast cancer services ($1,590,558).

2. Health Choice Network, Miami/Dade County, Florida to administer the Jesse Trice Cancer Prevention Project ($404,540).

3. East Tennessee State University, Cancer Prevention Research Center, James H. Quillen College of Medicine to address cancer care in the rural Appalachian region ($876,663).

4. University of Rhode Island, Cancer Prevention Research Center to provide interactive interventions to at-risk populations ($856,672).

5. Sisters of Charity Health Care System, to ensure that patients have access to early detection of gastrointestinal cancers ($175,144).

6. Marin County, California to evaluate high incidence of breast cancer in the San Francisco Bay Area ($202,745).

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $4,106,322 is available in FY 2001 to fund six awards. It is expected that the award will begin on or about August 1, 2001, and will be made for a 12-month budget period within a one year project period. Funding estimates may change.

D. Where To Obtain Additional Information

This and other CDC announcements can be found on the CDC home page Internet address http://www.cdc.gov. Click on “Funding” then “Grants and Cooperative Agreements.”

To obtain business management technical assistance, contact: Glynnis Taylor, Grants Management Specialist, Grants Management Branch, Procurement and Grants Office, Centers for Disease Control and Prevention (CDC), 2920 Brandywine Road, Room 3000, Atlanta, GA 30341-4146, Telephone: (770) 488-2752, E-mail address: gld1@cdc.gov.

For program technical assistance, contact: Susan True, M.Ed., Branch, Chief, Program Services Branch, Division of Cancer Prevention and Control,National Center for Chronic Disease Prevention and Health, Promotion (NCCDPHP), 4770 Buford Highway, NE, MS K-57, Atlanta, Georgia 30341,Telephone: (770) 488-4880, E-mail address: smt7@cdc.gov.

Dated: May 11, 2001.
John L. Williams,
Director, Procurement and Grants Office, Centers for Disease Control and Prevention (CDC).

[FR Doc. 01-12423 Filed 5-16-01; 8:45 am]

BILLING CODE 4163-18-P